INTER-AMERICAN FOUNDATION

Sunshine Act Meetings

TIME AND DATE: February 3, 2022, 2:00 p.m.-3:30 p.m. ET.

PLACE: Via tele-conference.

STATUS: Meeting of the IAF Board of Directors, open to the public, portion closed to the public.

MATTERS TO BE CONSIDERED:

Call to Order from the Board Chair

Welcome from the Interim President/CEO and Board Chair

Candidate Review process for CEO Recruitment

Adjournment

Portion To Be Closed to the Public

Executive session closed to the public as provided for by 22 CFR 1004.4(b).

CONTACT PERSON FOR MORE INFORMATION: Aswathi Zachariah, General Counsel, (202) 683-7118.

For Dial-in Information Contact: Denetra McPherson, Paralegal, (202) 699-3054.

The Inter-American Foundation is holding this meeting under the Government in the Sunshine Act, 5 U.S.C. 552(b).

Aswathi Zachariah,
General Counsel.

[FR Doc. 2022-01945 Filed 1-26-22; 4:15 pm]

BILLING CODE 7025-01-P